DEPARTMENT OF ENERGY

Federal Energy Regulatory Commission

Combined Notice of Filings #1

Take notice that the Commission received the following electric corporate filings:

Docket Numbers: EC18-54-000.

Applicants: Twin Eagle Resource Management, LLC,TERM Holdings, LLC.

Description: Application under FPA Section 203 of Twin Eagle Resource Management, LLC, et al.

Filed Date: 2/7/18.

Accession Number: 20180207-5153.

Comments Due: 5 p.m. ET 2/28/18.

Take notice that the Commission received the following exempt wholesale generator filings:

Docket Numbers: EG18-45-000.

Applicants: ColGreen North Shore, LLC.

Description: Self-Certification of EWG Status of ColGreen North Shore, LLC.

Filed Date: 2/7/18.

Accession Number: 20180207-5126.

Comments Due: 5 p.m. ET 2/28/18.

Take notice that the Commission received the following electric rate filings:

Docket Numbers: ER17-1567-002.

Applicants: PJM Interconnection, L.L.C.

Description: Compliance filing: Amended Compliance Filing RE: November 9, 2017 Order in Docket No. ER17-1567-001 to be effective 12/31/9998.

Filed Date: 2/8/18.

Accession Number: 20180208-5047.

Comments Due: 5 p.m. ET 3/1/18.

Docket Numbers: ER18-815-001.

Applicants: PJM Interconnection, L.L.C.

Description: Tariff Amendment: Errata to Attachment Q re: Regulation Resource Credit filing-Docket No. ER18-815 to be effective 4/9/2018.

Filed Date: 2/7/18.

Accession Number: 20180207-5128.

Comments Due: 5 p.m. ET 2/28/18.

Docket Numbers: ER18-828-000.

Applicants: Pacific Gas and Electric Company.

Description: § 205(d) Rate Filing: E&P Agreement for Avenal Solar Holdings LLC to be effective 2/9/2018.

Filed Date: 2/8/18.

Accession Number: 20180208-5110.

Comments Due: 5 p.m. ET 3/1/18.

Take notice that the Commission received the following PURPA 210(m)(3) filings:

Docket Numbers: QM18-9-000.

Applicants: Indiana Municipal Power Agency.

Description: Application of Indiana Municipal Power Agency to Terminate Mandatory Purchase Obligation Under the Public Utility Regulatory Policies Act of 1978.

Filed Date: 2/8/18.

Accession Number: 20180208-5088.

Comments Due: 5 p.m. ET 3/8/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2018.
Nathaniel J. Davis, Sr.,
Deputy Secretary.

[FR Doc. 2018-03020 Filed 2-13-18; 8:45 am]

BILLING CODE 6717-01-P